DEPARTMENT OF ENERGY

Federal Energy Regulatory Commission

Combined Notice of Filings #1

January 25, 2010.

Take notice that the Commission received the following electric corporate filings:

Docket Numbers: EC10-41-000.

Applicants: Wolverine Power Supply Cooperative, Inc., FirstEnergy Generation Corp.

Description: Application of Wolverine Power Supply Cooperative, Inc. and FirstEnergy Generation Corp. for Order Authorizing Transaction Under Section 203 of the Federal Power Act, and Request for Waivers and Confidential Treatment.

Filed Date: 01/21/2010.

Accession Number: 2010.0121-5067.

Comment Date: 5 p.m. Eastern Time on Thursday, February 11, 2010.

Take notice that the Commission received the following electric rate filings:

Docket Numbers: ER99-3427-000.

Applicants: SOWEGA Power LLC.

Description: SOWEGA Power LLC submits notice of non-material change in status etc.

Filed Date: 01/20/2010.

Accession Number: 2010.0120-0019.

Comment Date: 5 p.m. Eastern Time on Wednesday, February 10, 2010.

Docket Numbers: ER02-556-012; ER06-1280-005.

Applicants: Hess Corporation, Select Energy New York, Inc.

Description: Supplement to Notice of Change in Status Filing of Hess Corporation.

Filed Date: 01/22/2010.

Accession Number: 2010.0122-5147.

Comment Date: 5 p.m. Eastern Time on Friday, February 12, 2010.

Docket Numbers: ER07-844-006; ER07-845-006; ER07-846-006; ER07-847-006; ER09-629-005; ER99-4160-021.

Applicants: Dynegy Power Marketing, Inc., Dynegy Moss Landing, LLC, Dynegy Morro Bay, LLC, Dynegy Oakland, LLC, Dynegy South Bay, LLC, Dynegy Marketing and Trade, LLC.

Description: Notice of Change in Status of South Bay, LLC, et al.

Filed Date: 01/25/2010.

Accession Number: 2010.0125-5110.

Comment Date: 5 p.m. Eastern Time on Tuesday, February 16, 2010.

Docket Numbers: ER08-580-002.

Applicants: Ontario Power Generation Energy Trading.

Description: Supplemental Information/Request of Ontario Power Generation Energy Trading, Inc.

Filed Date: 01/22/2010.

Accession Number: 2010.0122-5109.

Comment Date: 5 p.m. Eastern Time on Friday, February 12, 2010.

Docket Numbers: ER08-1443-004.

Applicants: Noble Great Plains Windpark, LLC.

Description: Notice of Non-Material Change in Status of Noble Great Plains Windpark, LLC.

Filed Date: 01/21/2010.

Accession Number: 2010.0121-5120.

Comment Date: 5 p.m. Eastern Time on Thursday, February 11, 2010.

Docket Numbers: ER09-832-004; ER00-2391-011; ER00-3068-010; ER02-1903-012; ER02-2120-008; ER02-2166-010; ER02-2559-011; ER02-256-003; ER03-1375-007; ER04-187-008; ER04-290-006; ER05-236-008; ER05-661-004; ER05-714-005; ER09-990-003; ER98-3511-014; ER98-3563-014; ER98-3564-015; ER99-2917-012.

Applicants: NextEra Energy Power Marketing, LLC; Doswell Limited Partnership; FPL Energy Cape, LLC; FPL Energy Marcus Hook, L.P.; FPLE Rhode Island State Energy, LP; Pennsylvania Windfarms, Inc.; Backbone Mountain Windpower LLC; Mill Run Windpower, LLC; Waymart Wind Farm L.P.; North Jersey Energy Associates, a L.P.; Meyersdale Windpower, LLC; Northeast Energy Associates, LP; Somerset Windpower LLC; Gexa Energy LLC; NextEra Energy SeaBrook, LLC; FPLE Maine Hydro, LLC; FPL Energy Wyman, LLC; FPL Energy Wyman IV LLC; FPL ENERGY MH50, LP.

Description: NextEra Companies Notice of Change in Status.

Filed Date: 01/21/2010.

Accession Number: 2010.0121-5092.

Comment Date: 5 p.m. Eastern Time on Thursday, February 11, 2010.

Docket Numbers: ER10-104-001.

Applicants: Cleco Power LLC, Acadia Power Partners, LLC.

Description: Acadia Power Partners, LLC submits a compliance filing of Second Revised Sheet No. 2.

Filed Date: 01/21/2010.

Accession Number: 2010.0121-0204.

Comment Date: 5 p.m. Eastern Time on Thursday, February 11, 2010.

Docket Numbers: ER10-128-001.

Applicants: Midwest Independent Transmission System Operator, Inc.

Description: Midwest Independent Transmission System Operate, Inc submits a compliance filing regarding the procedures for requesting and scheduling outages for Generation Resources, etc.

Filed Date: 01/22/2010.

Accession Number: 2010.0125-0208.

Comment Date: 5 p.m. Eastern Time on Friday, February 12, 2010.

Docket Numbers: ER10-286-000.

Applicants: Cleco Power LLC, Acadia Power Partners, LLC.

Description: Cleco Power, LLC et al submits joint applications issuing an Order Authorizing the Acquisition and Disposition of Jurisdictional Facilities under Section 203 et al.

Filed Date: 01/22/2010.

Accession Number: 2010.0122-0017.

Comment Date: 5 p.m. Eastern Time on Friday, February 12, 2010.

Docket Numbers: ER10-379-001.

Applicants: Just Energy (U.S.) Corp.

Description: Just Energy (US) Corp submits a supplement to the application for order accepting rates for filing and granting waivers and blanket approvals.

Filed Date: 01/21/2010.

Accession Number: 2010.0121-0203.

Comment Date: 5 p.m. Eastern Time on Thursday, February 11, 2010.

Docket Numbers: ER10-421-001.

Applicants: Crystal Lake Wind, LLC.

Description: Crystal Lake Wind, LLC submits an Amended and Restated Shared Facilities Agreement.

Filed Date: 01/21/2010.

Accession Number: 2010.0121-0205.

Comment Date: 5 p.m. Eastern Time on Thursday, February 11, 2010.

Docket Numbers: ER10-626-000.

Applicants: Idaho Power Company.

Description: Idaho Power submits a cancellation of Service Agreement No. 127.

Filed Date: 01/21/2010.

Accession Number: 2010.0121-0201.

Comment Date: 5 p.m. Eastern Time on Thursday, February 11, 2010.

Docket Numbers: ER10-627-000.

Applicants: Cleco Power LLC.

Description: Cleco Power LLC submits an amendment to the Electric System Interconnection Agreement.

Filed Date: 01/21/2010.

Accession Number: 2010.0121-0202.

Comment Date: 5 p.m. Eastern Time on Thursday, February 11, 2010.

Docket Numbers: ER10-630-000.

Applicants: Southern California Edison Company.

Description: Southern California Edison Company submits First Revised Sheet 82 et al to the FERC Electric Tariff, First Revised Volume 5 Service Agreement 186 to be effective 3/24/10.

Filed Date: 01/22/2010.

Accession Number: 2010.0125-0202.

Comment Date: 5 p.m. Eastern Time on Friday, February 12, 2010.

Docket Numbers: ER10-631-000.

Applicants: Southern California Edison Company.

Description: Southern California Edison Company submits letter agreement between SCE and the City of Riverside, Riverside Public Utilities Department.

Filed Date: 01/22/2010.

Accession Number: 20100125-0203.

Comment Date: 5 p.m. Eastern Time on Friday, February 12, 2010.

Docket Numbers: ER10-632-000.

Applicants: Majestic Wind Power LLC.

Description: Majestic Wind Power LLC submits Notice of Cancellation of its market-based rate tariff—FERC Electric Tariff, Original Volume 1—currently on file with the Commission.

Filed Date: 01/22/2010.

Accession Number: 20100125-0204.

Comment Date: 5 p.m. Eastern Time on Friday, February 12, 2010.

Docket Numbers: ER10-633-000.

Applicants: Butler Ridge, LLC.

Description: Butler Ridge, LLC submits a Notice of Cancellation of its market-based rate tariff—FERC Electric Tariff, Original Volume 1.

Filed Date: 01/22/2010.

Accession Number: 20100125-0205.

Comment Date: 5 p.m. Eastern Time on Friday, February 12, 2010.

Docket Numbers: ER10-634-000.

Applicants: Wessington Wind I LLC.

Description: Wessington Wind, LLC submits a Notice of Cancellation of its marked based rate tariff—FERC Electric Tariff, Original Volume 1 to be effective 3/23/10.

Filed Date: 01/22/2010.

Accession Number: 20100125-0206.

Comment Date: 5 p.m. Eastern Time on Friday, February 12, 2010.

Docket Numbers: ER10-635-000.

Applicants: Wabash Valley Power Association, Inc.

Description: Wabash Valley Power Association, Inc submits FERC First Revised Rate Schedule No 27.

Filed Date: 01/22/2010.

Accession Number: 20100125-0207.

Comment Date: 5 p.m. Eastern Time on Friday, February 12, 2010.

Docket Numbers: ER10-637-000.

Applicants: New England Independent Transmission Com.

Description: New England Independent Transmission Company, LLC et al submits the Operating Agreement with New England ITC under ER10-637.

Filed Date: 01/22/2010.

Accession Number: 20100125-0217.

Comment Date: 5 p.m. Eastern Time on Friday, February 12, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. 2010-2083 Filed 2-1-10; 8:45 am]

BILLING CODE 6717-01-P